DEPARTMENT OF ENERGY

Federal Energy Regulatory Commission

Combined Notice of Filings #1

Take notice that the Commission received the following electric corporate filings:

Docket Numbers: EC25-142-000.

Applicants: Entergy Arkansas, LLC, Redfield PV I, LLC.

Description: Joint Application for Authorization Under Section 203 of the Federal Power Act of Entergy Arkansas, LLC, et al.

Filed Date: 8/29/25.

Accession Number: 20250829-5245.

Comment Date: 5 p.m. ET 9/19/25.

Take notice that the Commission received the following electric rate filings:

Docket Numbers: ER10-2374-023; ER17-2059-014.

Applicants: Puget Sound Energy, Inc., Puget Sound Energy, Inc.

Description: Second Supplement to 06/30/2025, Updated Triennial Market Power Analysis for Northwest Region of Puget Sound Energy, Inc.

Filed Date: 8/29/25.

Accession Number: 20250829-5240.

Comment Date: 5 p.m. ET 9/19/25.

Docket Numbers: ER17-2088-003; ER16-2035-003.

Applicants: Black Oak Wind, LLC, Apple Blossom Wind, LLC.

Description: Supplement to 08/07/2025, Notice of Change in Status of Apple Blossom Wind, LLC, et al.

Filed Date: 8/29/25.

Accession Number: 20250829-5246.

Comment Date: 5 p.m. ET 9/19/25.

Docket Numbers: ER25-3066-001.

Applicants: UGI Utilities, Inc., UGI Utilities Inc.

Description: Tariff Amendment: UGI Utilities Inc. submits tariff filing per 35.17(b): UGIU submits Formula Rate—Depreciation Rate Revision Errata Filing to be effective 10/1/2025.

Filed Date: 9/2/25.

Accession Number: 20250902-5086.

Comment Date: 5 p.m. ET 9/23/25.

Docket Numbers: ER25-3351-000.

Applicants: Tri-State Generation and Transmission Association, Inc.

Description: § 205(d) Rate Filing: Amendment to Rate Schedule FERC No. 54 to be effective 10/29/2025.

Filed Date: 8/29/25.

Accession Number: 20250829-5151.

Comment Date: 5 p.m. ET 9/19/25.

Docket Numbers: ER25-3352-000.

Applicants: PPL Electric Utilities Corporation.

Description: § 205(d) Rate Filing: PPL Electric Order No. 898 Rate Filing to be effective 10/31/2025.

Filed Date: 8/29/25.

Accession Number: 20250829-5191.

Comment Date: 5 p.m. ET 9/19/25.

Docket Numbers: ER25-3353-000.

Applicants: PJM Interconnection, L.L.C.

Description: § 205(d) Rate Filing: Original NSA, Service Agreement No. 7733; AG1-107/AF2-440 to be effective 8/4/2025.

Filed Date: 9/2/25.

Accession Number: 20250902-5082.

Comment Date: 5 p.m. ET 9/23/25.

Docket Numbers: ER25-3354-000.

Applicants: Public Service Company of Colorado.

Description: § 205(d) Rate Filing: 2025-08-08- PSC-MEAN-Psuedo Tie Boundary Meters-Facility Study-859 0.0.0 to be effective 10/7/2025.

Filed Date: 9/2/25.

Accession Number: 20250902-5098.

Comment Date: 5 p.m. ET 9/23/25.

Docket Numbers: ER25-3355-000.

Applicants: Tri-State Generation and Transmission Association, Inc.

Description: § 205(d) Rate Filing: Amendment to Rate Schedule FERC No. 76 to be effective 11/3/2025.

Filed Date: 9/2/25.

Accession Number: 20250902-5104.

Comment Date: 5 p.m. ET 9/23/25.

Docket Numbers: ER25-3356-000.

Applicants: Tri-State Generation and Transmission Association, Inc.

Description: Tariff Amendment: Notice of Cancellation of Rate Schedule FERC No. 280 to be effective 11/2/2025.

Filed Date: 9/2/25.

Accession Number: 20250902-5135.

Comment Date: 5 p.m. ET 9/23/25.

Docket Numbers: NJ25-9-000.

Applicants: Orlando Utilities Commission.

Description: Non: Revised Non-Jurisdictional Rate Sheets OATT (Scheds. 7, 8, & Attach. H) 2025 to be effective 10/1/2025.

Filed Date: 7/16/25.

Accession Number: 20250716-5098.

Comment Date: 5 p.m. ET 9/9/25.

The filings are accessible in the Commission's eLibrary system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 2, 2025.
Carlos D. Clay,
Deputy Secretary.

[FR Doc. 2025-17023 Filed 9-4-25; 8:45 am]

BILLING CODE 6717-01-P